DEPARTMENT OF THE TREASURY

Internal Revenue Service

Advisory Group to the Internal Revenue Service Tax Exempt and Government Entities Division (TE/GE); Meeting

AGENCY: Internal Revenue Service (IRS), Treasury.

ACTION: Notice.

SUMMARY: The Advisory Committee on Tax Exempt and Government Entities (ACT) will hold a public meeting on Wednesday, June 15, 2011.

FOR FURTHER INFORMATION CONTACT: Roberta B. Zarin, Director, TE/GE Communications and Liaison; 1111 Constitution Ave., NW.; SE:T:CL—Penn Bldg; Washington, DC 20224. Telephone: 202-283-8868 (not a toll-free number). E-mail address: Roberta.B.Zarin@irs.gov.

SUPPLEMENTARY INFORMATION: By notice herein given, pursuant to section 10(a)(2) of the Federal Advisory Committee Act, 5 U.S.C. App. (1988), a public meeting of the ACT will be held on Wednesday, June 15, 2011, from 9:30 a.m. to 12:30 p.m., at the Internal Revenue Service; 1111 Constitution Ave., NW.; Room 3313; Washington, DC. Issues to be discussed relate to Employee Plans, Exempt Organizations, and Government Entities.

Reports from five ACT subgroups cover the following topics:

Tax Exempt Bonds:

—The Role of Conduit Issuers in Tax Compliance.

Federal, State and Local Governments:

—Review of the Government Accountability Office (GAO) Report to Congressional Requesters Entitled “Social Security Administration—Management Oversight Needed to Ensure Accurate Treatment of State and Local Government Employees.”

—Evaluation of, and Recommendations for Improvement to, the Federal, State and Local Governments (FSLG) Web site.

Indian Tribal Governments:

—Supplemental Report on the Implementation of Tribal Economic Development Bonds Under the American Recovery and Reinvestment Act of 2009.

—Survey of Issues Requiring Administrative Guidance in the Wake of Enactment of Section 906 of the Pension Protection Act of 2006.

Exempt Organizations:

—Group Exemptions: Creating a Higher Degree of Transparency, Accountability, and Responsibility.

Employee Plans:

—Recommendations Regarding Pension Outreach to the Small Business Community.

Last minute agenda changes may preclude advance notice. Due to limited seating and security requirements, attendees must call Cynthia PhillipsGrady to confirm their attendance. Ms. PhillipsGrady can be reached at (202) 283-9954.

Attendees are encouraged to arrive at least 30 minutes before the meeting begins to allow sufficient time for security clearance. Photo identification must be presented. Please use the main entrance at 1111 Constitution Ave., NW., to enter the building. Should you wish the ACT to consider a written statement, please call (202) 283-8868, or write to: Internal Revenue Service; 1111 Constitution Ave., NW.; SE:T:CL-Penn Bldg; Washington, DC 20224, or e-mail Roberta.B.Zarin@irs.gov.

Dated: May 20, 2011.
Roberta B. Zarin,
Designated Federal Official, Tax Exempt and Government Entities Division.

[FR Doc. 2011-13125 Filed 5-26-11; 8:45 am]

BILLING CODE 4830-01-P